DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2010, there were seven applications approved. This notice also includes information on one application, approved in March 2010, inadvertently left off the March 2010 notice. Additionally, 12 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Birmingham Airport Authority, Birmingham, Alabama.

Application Number: 10-08-C-00-BHM.

Application Type: Impose and use a PFC.

PFC Level: $4.50.

Total PFC Revenue Approved in This Decision: $7,310,680.

Earliest Charge Effective Date: July 1, 2010.

Estimated Charge Expiration Date: October 1, 2011.

Class of Air Carriers Not Required To Collect PFC's:

Air taxi/commercial operators filing FAA Form 1800-31.

Determination: Approved. Based on information submitted in the public agency's application, the FAA has determined that the proposed class accounts for less than 1 percent of the total annual enplanements at Birmingham—Shuttlesworth International Airport.

Brief Description of Projects Approved for Collection and Use:

Acquire noise impacted land.

Acquire environmentally impacted land.

Security enhancements.

Terminal preconstruction services.

Brief Description of Project Approved for Collection:

Terminal demolition.

Decision Date: March 31, 2010.

FOR FURTHER INFORMATION CONTACT: Kevin Morgan, Jackson Airports District Office, (601) 664-9891.

Public Agency: City of Portland, Maine.

Application Number: 10-05-C-00-PWM.

Application Type: Impose and use a PFC.

PFC Level: $4.50.

Total PFC Revenue Approved in This Decision: $132,206,104.

Earliest Charge Effective Date: November 1, 2010.

Estimated Charge Expiration Date: April 1, 2040.

Class of Air Carriers Not Required To Collect PFC's: Air taxi/commercial operators.

Determination: Approved. Based on information submitted in the public agency's application, the FAA has determined that the proposed class accounts for less than 1 percent of the total annual enplanements at Portland International Jetport.

Brief Description of Projects Approved for Collection and Use:

Terminal building expansion.

Passenger boarding bridges.

Roadway realignment.

Decision Date: April 12, 2010.

FOR FURTHER INFORMATION CONTACT: Priscilla Scott, New England Region Airports Division, (781) 238-7614.

Public Agency: Monterey Peninsula Airport District, Monterey, California.

Application Number: 10-15-C-00-MRY.

Application Type: Impose and use a PFC.

PFC Level: $4.50.

Total PFC Revenue Approved in This Decision: $975,000.

Earliest Charge Effective Date: August 1, 2010.

Estimated Charge Expiration Date: August 1, 2011.

Class of Air Carriers Not Required To Collect PFC's:

Nonscheduled/on-demand air carriers filing FAA Form 1800-31.

Determination: Approved. Based on information submitted in the public agency's application, the FAA has determined that the proposed class accounts for less than 1 percent of the total annual enplanements at Monterey Peninsula Airport.

Brief Description of Projects Approved for Collection and Use:

Airport access improvements—phase II.

Flight information display system and access information equipment—phase II.

Wildlife hazard assessment.

Brief Description of Projects Approved for Collection:

Runway IOR/28L safety area design—phase I.

Runway 1OR/28L safety area construction—phase I.

Decision Date: April 16, 2010.

FOR FURTHER INFORMATION CONTACT: Gretchen Kelly, San Francisco Airports District Office, (650) 876-2778, extension 623.

Public Agency: Port Authority of New York and New Jersey, New York, New York.

Application Number: 09-06-U-00-EWR.

Application Type: Use PFC revenue.

PFC Level: $4.50.

Total PFC Revenue Approved for Use in This Decision: $19,733,400.

Charge Effective Date: April 1, 2006.

Estimated Charge Expiration Date: March 1, 2011.

Class of Air Carriers Not Required To Collect PFC's: No change from previous decision.

Brief Description of Projects Approved for Use at Newark Liberty International Airport (EWR) at a $4.50 PFC Level:

Upgrade navigational aids, runways 22R and 22L.

Upgrade navigational aids, runway 4L.

Improvements to runway safety areas.

Brief Description of Project Approved for Use at LaGuardia Airport (LGA) at a $3.00 PFC Level: Central terminal building modernization planning and engineering.

Brief Description of Withdrawn Project: Construction of taxiway A connector.

Date of Withdrawal: April 16, 2010.

Decision Date: April 26, 2010.

FOR FURTHER INFORMATION CONTACT: Andrew Brooks, New York Airports District Office, (516) 227-3816.

Public Agency: Port Authority of New York and New Jersey, New York, New York.

Application Number: 09-06-U-00-JFK.

Application Type: Use PFC revenue.

PFC Level: $4.50.

Total PFC Revenue Approved for Use in This Decision: $22,549,200.

Charge Effective Date: April 1, 2006.

Estimated Charge Expiration Date: March 1, 2011.

Class of Air Carriers Not Required To Collect PFC's: No change from previous decision.

Brief Description of Projects Approved for Use at EWR at a $4.50 PFC Level:

Upgrade navigational aids, runways 22R and 22L.

Upgrade navigational aids, runway 4L.

Improvements to runway safety areas.

Brief Description of Project Approved for Use at LGA at a $3.00 PFC Level: Central terminal building modernization planning and engineering.

Brief Description of Withdrawn Project: Construction of taxiway A connector.

Date of Withdrawal: April 16, 2010.

Decision Date: April 26, 2010.

FOR FURTHER INFORMATION CONTACT: Andrew Brooks, New York Airports District Office, (516) 227-3816.

Public Agency: Port Authority of New York and New Jersey, New York, New York.

Application Number: 09-06-U-00-LGA.

Application Type: Use PFC revenue.

PFC Level: $4.50.

Total PFC Revenue Approved for Use in This Decision: $14,717,400.

Charge Effective Date: April 1, 2006.

Estimated Charge Expiration Date: March 1,2011.

Class of Air Carriers Not Required to Collect PFC's: No change from previous decision.

Brief Description of Projects Approved for Use at EWR at a $4.50 PFC Level:

Upgrade navigational aids, runways 22R and 22L.

Upgrade navigational aids, runway 4L.

Improvements to runway safety areas.

Brief Description of Project Approved for Use at LGA at a $3.00 Pfc Level: Central terminal building modernization planning and engineering.

Brief Description of Withdrawn Project: Construction of taxiway A connector.

Date of Withdrawal: April 16, 2010.

Decision Date: April 26, 2010.

FOR FURTHER INFORMATION CONTACT: Andrew Brooks, New York Airports District Office, (516) 227-3816.

Public Agency: Peninsula Airport Commission, Newport News, Virginia.

Application Number: 10-02-C-00-PHF.

Application Type: Impose and use a PFC.

PFC Level: $4.50.

Total PFC Revenue Approved in This Decision: $18,910,908.

Earliest Charge Effective Date: July 1, 2010.

Estimated Charge Expiration Date: March 1, 2020.

Classes of Air Carriers Not Required To Collect PFC's:

(1) Air carriers operating under part 135 on an on-demand, non scheduled, whole plane charter basis and not selling tickets to individual passengers; (2) air carriers operating under part 298 on an on-demand, non scheduled, whole plane charter basis and not selling tickets to individual passengers.

Determination: Approved. Based on information submitted in the public agency's application, the FAA has determined that each proposed class accounts for less than 1 percent of the total annual enplanements at Newport News/Williamsburg International Airport.

Brief Description of Projects Approved for Collection and Use:

Runway 7/25 rehabilitation (design and construction).

Runway 25 runway safety area.

Airport signage.

Terminal concourse design/construction.

Obstruction removal.

PFC application development.

Terminal concourse jet bridges (four).

Airport master plan update.

Terminal building rehabilitation and public circulation improvements.

Flight information display system/baggage information display system/gate information display system.

Airside sweeper.

Wildlife mitigation.

PFC program administration.

Airfield lighting upgrade.

Operations/security vehicle.

Federal inspection services finish.

Aircraft rescue and firefighting vehicle.

Brief Description of Projects Approved for Collection:

Rehabilitate taxiways A, B, and C (design).

Snow removal equipment/maintenance facility (design and construction).

Rehabilitate taxiways A, B, and C (construction).

Decision Date: April 26, 2010.

FOR FURTHER INFORMATION CONTACT: Jeffrey Breeden, Washington Airports District Office, (703) 661-1363.

Public Agency: Horry County Department of Airports, Myrtle Beach, South Carolina.

Application Number: 10-04-C-00-MYR.

Application Type: Impose and use a PFC.

PFC Level: $4.50.

Total PFC Revenue Approved in This Decision: $104,020,700.

Earliest Charge Effective Date: June 1, 2010.

Estimated Charge Expiration Date: January 1, 2032.

Class of Air Carriers Not Required To Collect PFC's:

Nonscheduled/on-demand air carriers, filing FAA Form 1800-31.

Determination: Approved. Based on information submitted in the public agency's application, the FAA has determined that the proposed class accounts for less than 1 percent of the total annual enplanements at Myrtle Beach International Airport.

Brief Description of Projects Approved for Collection and Use:

Terminal capacity enhancement program (TCEP)—terminal facility.

TCEP—airfield improvements.

TCEP—airport roads.

Decision Date: April 28, 2010.

FOR FURTHER INFORMATION CONTACT: Anna Guss, Atlanta Airports District Office, (404) 305-7146.

Amendments to PFC Approvals
Amendment No., city, state | Amendment approved date | Original approved net PFC revenue | Amended approved net PFC revenue | Original estimated charge exp. date | Amended estimated charge exp. date
99-03-C-O1-CIC, Chico, CA | 04/01/10 | $25,000 | $19,822 | 02/01/01 | 02/01/01
06-07-C-00-DBQ, Dubuque, IA | 04/06/10 | 153,046 | 49,761 | 11/01/06 | 11/01/06
06-08-C-02-DBQ, Dubuque, IA | 04/06/10 | 288,718 | 246,105 | 03/01/08 | 03/01/08
94-01-C-01-SLK, Saranac Lake, NY | 04/07/10 | 121,952 | 120,749 | 09/01/07 | 09/01/07
97-07-C-01-OAK, Oakland, CA | 04/12/10 | 33,011,496 | 23,825,854 | 06/01/99 | 06/01/99
99-08-C-01-OAK, Oakland, CA | 04/12/10 | 12,251,844 | 11,737,121 | 07/01/00 | 07/01/00
00-09-C-02-OAK, Oakland, CA | 04/12/10 | 33,380,000 | 17,394,806 | 02/01/03 | 02/01/03
01-10-C-02-OAK, Oakland, CA | 04/12/10 | 32,000,000 | 20,640,754 | 09/01/03 | 09/01/03
02-11-C-01-OAK, Oakland, CA | 04/12/10 | 7,000,000 | 5,402,257 | 12/01/03 | 12/01/03
02-06-C-09-MSY, New Orleans, LA | 04/15/10 | 271,336,494 | 287,977,095 | 09/01/18 | 12/01/19
09-10-C-01-MSY, New Orleans, LA | 04/15/10 | 70,531,906 | 52,805,580 | 08/01/26 | 06/01/26
02-02-C-01-RDD, Redding, CA | 04/19/10 | 1,251,567 | 1,124,987 | 07/10/07 | 04/01/07

Issued in Washington, DC on May 7, 2010.
Joe Hebert,
Manager, Financial Analysis and Passenger Facility Charge Branch.

[FR Doc. 2010-11470 Filed 5-14-10; 8:45 am]

BILLING CODE 4910-13-M